DEPARTMENT OF ENERGY

Federal Energy Regulatory Commission

[ Docket No. CP20-27-000]

North Baja Pipeline, LLC; Notice of Revised Schedule for Environmental Review of the North Baja Xpress Project

This notice identifies the Federal Energy Regulatory Commission staff's revised schedule for the completion of the environmental assessment (EA) for North Baja Pipeline, LLC's (North Baja) North Baja XPress Project. The first notice of schedule, issued on February 14, 2020, identified July 17, 2020 as the EA issuance date. However, the schedule has been extended in order to accommodate the U.S. Bureau of Land Management's (BLM) review of North Baja's Plan of Development for the project, which North Baja has not yet provided but states it will file with the BLM in early July. The BLM is a cooperating agency in the development of the EA. As a result, staff has revised the schedule for issuance of the EA.

Schedule for Environmental Review

Issuance of the EA—September 8, 2020

90-day Federal Authorization Decision Deadline—December 7, 2020

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Comments may be filed electronically via the internet. See 18 CFR 385.2001(a)(1)(iii). Additional information about the Project is available from the Commission's Office of External Affairs at (866) 208-FERC or on the FERC website (www.ferc.gov). Using the https://elibrary.ferc.gov/IDMWS/search/fercgensearch.asp eLibrary link, enter the Docket Number excluding the last three digits (i.e., CP20-27), select a date range, and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 29, 2020.
Kimberly D. Bose,
Secretary.

[FR Doc. 2020-14420 Filed 7-8-20; 8:45 am]

BILLING CODE 6717-01-P